COMMITTEE FOR THE IMPLEMENTATION OF TEXTILE AGREEMENTS

Termination of Textile Visa Requirement for Women's and Girls' Wool Coats Manufactured in the Russian Federation Effective July 1, 2009

June 16, 2009.

AGENCY: Committee for the Implementation of Textile Agreements (CITA).

ACTION: Issuing a directive to the Commissioner, U.S. Customs and Border Protection, terminating the textile visa arrangement with Russia for Category 435, women's and girls' wool coats.

EFFECTIVE DATE: July 1, 2009.

FOR FURTHER INFORMATION CONTACT: Maria D'Andrea, Office of Textiles and Apparel, U.S. Department of Commerce, (202) 482-4058.

SUPPLEMENTARY INFORMATION:

Authority: Executive Order 11651 of March 3, 1972, as amended; Section 204 of the Agricultural Act of 1956, as amended (7 U.S.C. 1854).

In a notice and letter published in the Federal Register on January 31, 1997 (see 62 FR 4729), the United States established visa requirements for women's and girls' wool coats in Category 435 manufactured in the Russian Federation and exported from Russia on and after March 1, 1997. Because textile and apparel imports into the United States of America from the Russian Federation are no longer subject to quota restrictions, there is no need to maintain the visa requirements. Accordingly, pursuant to the Visa Arrangement between the Governments of the United States of America and the Russian Federation that was signed on October 22, 1996 and December 31, 1996, CITA has notified the Russian Federation that it is terminating visa requirements for women's and girls' wool coats in Category 435.

In the letter below, CITA is directing U.S. Customs and Border Protection to terminate the visa requirement for women's and girls' wool coats in Category 435 exported from Russia effective July 1, 2009.

Maria D'Andrea,
Acting Chairman, Committee for the Implementation of Textile Agreements.

Committee for the Implementation of Textile Agreements

June 16, 2009.

Commissioner,

U.S. Customs and Border Protection, Washington, DC 20229.

Dear Commissioner: You are directed to terminate all visa requirements for women's and girls' wool coats in Category 435 exported from Russia effective July 1, 2009.

The Committee for the Implementation of Textile Agreements has determined that this action falls within the foreign affairs exception to the rulemaking provisions of 5 U.S.C. 553(a)(1).

Sincerely,

Maria D'Andrea,

Acting Chairman, Committee for the Implementation of Textile Agreements.

[FR Doc. E9-14631 Filed 6-19-09; 8:45 am]

BILLING CODE 3510-DS